POSTAL REGULATORY COMMISSION

[Docket No. MC2012-31; Order No. 1399]

New Postal Product

AGENCY: Postal Regulatory Commission.

ACTION: Notice.

SUMMARY: The Commission is noticing a recently-filed Postal Service request to add Every Door Direct Mail-Retail (EDDM-R) to the market dominant product list. This notice addresses procedural steps associated with the filing.

DATES: Comments are due: July 30, 2012; Reply Comments are due: August 6, 2012.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel at 202-789-6820.

SUPPLEMENTARY INFORMATION: On July 10, 2012, the Postal Service filed a request pursuant to 39 U.S.C. 3642 and 39 CFR 3020.30 et seq., to modify the Mail Classification Schedule (MCS) by adding Every Door Direct Mail-Retail (EDDM-R) to the market dominant product list and establishing the classification language and price for EDDM-R.¹

¹ Request of the United States Postal Service to Add Every Door Direct Mail—Retail to the Mail Classification Schedule, July 10, 2012 (Request).

The Postal Service explains that EDDM-R is a Standard Mail experimental product currently in market test status in Docket No. MT2011-3.² The Postal Service states that the EDDM-R market test has successfully simplified mail entry by reducing complexity and cost and has enabled businesses to communicate by mail at a low cost within their target marketing areas. Request at 2.

² Docket No. MT2011-3, Order Approving Market Test of Experimental Product—Marketing Mail Made Easy, March 1, 2011, at 1 (Order No. 687). As proposed in Docket No. MT2011-3, the experimental product was named “Marketing Mail Made Easy” (MMME). The Postal Service has renamed that product “Every Door Direct Mail-Retail.”

According to the Postal Service, EDDM-R mail must meet the same preparation requirements as the Simplified Address option for Standard Mail Saturation Mail, be flat-shaped, and weigh no more than 3.3 ounces. Id. at 1. EDDM-R mailings do not require a permit or mailing fee, must be entered and paid for at a local Destination Delivery Unit (DDU), and must not exceed 5,000 pieces per ZIP Code served by the DDU. Id. If the Request is approved by the Commission, EDDM-R will continue to be classified as a market dominant Standard Mail product. Id. at 2.³

³ The experimental product being tested in Docket No. MT2011-3, MMME (see n.2, supra) is, like EDDM-R, a market dominant product. Order No. 687 at 1.

As required by 39 CFR 3020.31, the Postal Service indicates that EDDM-R is not a special classification within the meaning of 39 U.S.C. 3622(c)(10) for market dominant products; that EDDM-R will not be a product that is not of general applicability within the meaning of 39 U.S.C. 3632(b)(3) for competitive products; and that EDDM-R is not a non-postal product. Request at 2 n.1. The Postal Service also states that because EDDM-R is a market dominant product, its addition to the MCS does not require a Governors' Decision. Id.

Included as Attachment A to the Request is proposed MCS language. Included as Attachment B is a Statement of Supporting Justification which, among other things, addresses operational impacts and cost information requested by the Commission in Order No. 687 and Order No. 1164.⁴

⁴ Docket No. MT2011-3, Order Granting Request for Exemption from Annual Revenue Limitation, January 23, 2012 (Order No. 1164).

Pursuant to rule 3020.33, the Commission provides interested persons an opportunity to express views and offer comments on the proposed addition to the Mail Classification Schedule. Comments are due no later than July 30, 2012. Reply comments may be filed no later than August 6, 2012. The Postal Service's Request in Docket No. MC2012-31 can be accessed on the Commission's Web site (http://www.prc.gov).

Pursuant to 39 U.S.C. 505, Kenneth E. Richardson is appointed to serve as an officer of the Commission (Public Representative) to represent the interests of the general public in the above-captioned docket.

It is ordered:

1. Docket No. MC2012-31 is established to consider the Postal Service Request referred to in the body of this order.

2. Comments are due no later than July 30, 2012.

3. Reply comments are due no later than August 6, 2012.

4. The Commission appoints Kenneth E. Richardson as Public Representative to represent the interests of the general public in this proceeding.

5. The Secretary shall arrange for publication of this order in the Federal Register.

By the Commission.
Shoshana M. Grove,
Secretary.

[FR Doc. 2012-17398 Filed 7-17-12; 8:45 am]

BILLING CODE 7710-FW-P